DEPARTMENT OF THE INTERIOR

National Park Service

[NPS-WASO-NAGPRA-23041;PPWOCRADN0-PCU00RP14.R50000]

Notice of Intent To Repatriate Cultural Items: Worcester Society of Natural History d.b.a. EcoTarium, Worcester, MA

AGENCY: National Park Service, Interior.

ACTION: Notice.

SUMMARY: The Worcester Society of Natural History d.b.a. EcoTarium, in consultation with the appropriate Indian tribes or Native Hawaiian organizations, has determined that the cultural items listed in this notice meet the definition of sacred objects. Lineal descendants or representatives of any Indian tribe or Native Hawaiian organization not identified in this notice that wish to claim these cultural items should submit a written request to the Worcester Society of Natural History d.b.a. EcoTarium. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Worcester Society of Natural History d.b.a. EcoTarium at the address in this notice by June 2, 2017.

ADDRESSES: Shana Hawrylchak, Manager of Exhibits and Collections, EcoTarium, 222 Harrington Way, Worcester, MA 01604, telephone (508) 929-2733, email shawrylchak@ecotarium.org.

SUPPLEMENTARY INFORMATION: Notice is here given in accordance with the Native American Graves Protection and Repatriation Act (NAGPRA), 25 U.S.C. 3005, of the intent to repatriate cultural items under the control of the Worcester Society of Natural History d.b.a. EcoTarium, Worcester, MA, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

At an unknown date, one cultural item was removed from an unknown location. The one sacred object is a fan made of eagle feathers, hide, and small beadwork. In 2016, the fan was found in the collections storage facilities of the EcoTarium together with an associated exhibit label which read “Fan used in the peyote ceremony”. No information on the fan was found in the Museum's accession files or internal archives indicating either the provenience or the provenance of the fan. Based on the age of other materials in the Museum's anthropology collection, it is likely that the fan entered the collection in the 1950s. In the opinion of Douglas Diehl, Director of American Indian & Ethnographic Art at Skinner Auction House, the piece was Kiowa or Comanche, based on the design.

In consultation with Margaret Murrow, Tribal Historic Preservation Officer for the Comanche Nation, further details of the design were identified as being in the Comanche style. In particular, the feathers were cut, or “narrowed”, in a manner that is similar to traditional Comanche treatment of feathers and distinct from the fuller feather treatments seen in most Kiowa fans. The beadwork also follows traditional Comanche color schemes and patterns.

Determinations Made by the Worcester Society of Natural History d.b.a. EcoTarium

Officials of the Worcester Society of Natural History d.b.a. EcoTarium have determined that:

• Pursuant to 25 U.S.C. 3001(3)(C), the one cultural item described above is a specific ceremonial object needed by traditional Native American religious leaders for the practice of traditional Native American religions by their present-day adherents.

Additional Requestors and Disposition

Lineal descendants or representatives of any Indian tribe or Native Hawaiian organization not identified in this notice that wish to claim these cultural items should submit a written request with information in support of the claim to Shana Hawrylchak, Manager of Exhibits and Collections, EcoTarium, 222 Harrington Way, Worcester, MA 01604, telephone (508) 929-2733, email shawrylchak@ecotarium.org, by June 2, 2017. After that date, if no additional claimants have come forward, transfer of control of the sacred object to the Comanche Nation, Oklahoma, may proceed.

The Worcester Society of Natural History d.b.a. EcoTarium is responsible for notifying the Comanche Nation, Oklahoma, that this notice has been published.

Dated: March 7, 2017.
Melanie O'Brien,
Manager, National NAGPRA Program.

[FR Doc. 2017-08866 Filed 5-2-17; 8:45 am]

BILLING CODE 4312-52-P